NATIONAL SCIENCE FOUNDATION

Notice of Record of Decision

AGENCY: National Science Foundation.

ACTION: Notice of Record of Decision.

SUMMARY: On December 3, 2009, the National Science Foundation (NSF) issued a Record of Decision (ROD) approving the funding for the construction of the Advanced Technology Solar Telescope (ATST) Project at the Preferred Mees site located within the Haleakalā High Altitude Observatory on the Island of Maui, Hawai‘i. The decision to fund the ATST is in response to a construction proposal submitted by the National Solar Observatory in 2004. The ATST is founded on one of NSF's fundamental missions, which is to support the scientific community's objectives to achieve unprecedented progress in solar observation. Although major adverse environmental impacts will result, the construction of the ATST at the Preferred Mees site represents an opportunity to implement a critical and unique astronomical resource that is expected to be useful and innovative for several decades to come. Increasing our understanding of the Sun and its ability to affect life on Earth will go a long way toward helping us predict certain catastrophic events and provide us with the opportunity to address the potential consequences.

Prior to issuance of the ROD, a Final Environmental Impact Statement (FEIS) for the ATST Project, which was prepared as a joint Federal and State of Hawai`i document in compliance with the Federal National Environmental Policy Act, 42 U.S.C. 4321, et seq. (NEPA), and the State of Hawai`i Chapter 343, Hawai`i Revised Statutes, was completed and made available to the public in late July of 2009. Three alternatives were analyzed in the FEIS, including the Preferred Mees site, the Alternative Reber Circle site (also located within HO), and the No-Action Alternative. The Preferred Mees site, which is also the environmentally preferred alternative was selected in the ROD. As explained more thoroughly in both the FEIS and ROD, construction and operation of the ATST at the Preferred Mees site will result in several major, adverse impacts to various resources, including cultural resources, viewsheds, and noise. While NSF will not be able to reduce all adverse impacts to lower intensity levels, the scientific gains that the ATST will provide have the potential to yield a significant benefit to life on Earth. NSF has, however, committed to implementation of a full suite of mitigation measures, which represent a dedicated, multi-year effort by NSF to address and reduce adverse impacts.

The ROD also follows NSF's completion of its compliance obligations under Section 106 of the National Historic Preservation Act and the Endangered Species Act. The ROD is now available on the Internet at: http://atst.nso.edu/nsf-env in Adobe® portable document format (PDF). Limited hard copies of the ROD are also available, on a first request basis, by contacting the NSF contact, Craig Foltz, Ph.D., ATST Program Director, 4201 Wilson Boulevard, Room 1045, Arlington, VA 22230, Telephone: 703-292-4909, e-mail: cfoltz@nsf.gov.

FOR FURTHER INFORMATION CONTACT: Craig Foltz, Ph.D., ATST Program Manager, National Science Foundation, Division of Astronomical Sciences, 4201 Wilson Boulevard, Room 1045, Arlington, VA 22230; Telephone: 703-292-4909, Fax: 703-292-9034, E-mail: cfoltz@nsf.gov.

Dated: December 3, 2009.
Craig Foltz,
ATST Program Manager, National Science Foundation.

[FR Doc. E9-29229 Filed 12-7-09; 8:45 am]

BILLING CODE 7555-01-P